DEPARTMENT OF COMMERCE

Foreign-Trade Zones Board

[S-93-2015]

Foreign-Trade Zone 83—Huntsville, Alabama, Application for Subzone, Toyota Motor Manufacturing Alabama, Inc., Huntsville, Alabama

An application has been submitted to the Foreign-Trade Zones (FTZ) Board by the Huntsville-Madison County Airport Authority, grantee of FTZ 83, requesting subzone status for the facilities of Toyota Motor Manufacturing Alabama, Inc., in Huntsville, Alabama. The application was submitted pursuant to the provisions of the Foreign-Trade Zones Act, as amended (19 U.S.C. 81a-81u), and the regulations of the FTZ Board (15 CFR part 400). It was formally docketed on June 19, 2015.

The proposed subzone would consist of the following sites: Site 1 (200 acres)—1 Cotton Valley Drive, Huntsville; and Site 2 (0.87 acres)—144 Hall Bryant Circle, Huntsville. The proposed subzone would be subject to the existing activation limit of FTZ 83. A notification of proposed production activity has also been submitted and is being processed under 15 CFR 400.37 (B-32-2015).

In accordance with the FTZ Board's regulations, Camille Evans of the FTZ Staff is designated examiner to review the application and make recommendations to the Executive Secretary.

Public comment is invited from interested parties. Submissions shall be addressed to the FTZ Board's Executive Secretary at the address below. The closing period for their receipt is August 4, 2015. Rebuttal comments in response to material submitted during the foregoing period may be submitted during the subsequent 15-day period to August 19, 2015.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Camille Evans at Camille.Evans@trade.gov or (202) 482-2350.

Dated: June 19, 2015.
Elizabeth Whiteman,
Acting Executive Secretary.

[FR Doc. 2015-15634 Filed 6-24-15; 8:45 am]

BILLING CODE 3510-DS-P